DEPARTMENT OF THE TREASURY

Internal Revenue Service

Open Meeting of the Taxpayer Advocacy Panel's Notices and Correspondence Project Committee

AGENCY: Internal Revenue Service (IRS), Treasury.

ACTION: Notice of meeting.

SUMMARY: An open meeting of the Taxpayer Advocacy Panel's Notices and Correspondence Project Committee will be conducted. The Taxpayer Advocacy Panel is soliciting public comments, ideas, and suggestions on improving customer service at the Internal Revenue Service.

DATES: The meeting will be held Monday, January 11, 2016 and Tuesday, January 12, 2016.

FOR FURTHER INFORMATION CONTACT: Theresa Singleton at 1-888-912-1227 or 202-317-3329.

SUPPLEMENTARY INFORMATION: Notice is hereby given pursuant to Section 10(a)(2) of the Federal Advisory Committee Act, 5 U.S.C. App. (1988) that a meeting of the Taxpayer Advocacy Panel Notices and Correspondence Project Committee will be held Monday, January 11, 2016, from 1:00 p.m. to 4:30 p.m. and Tuesday, January 12, 2016, from 8:00 a.m. until 4:30 p.m. Eastern Time at the Charles Bennett Federal Building, 400 West Bay Street, Jacksonville, FL 32202. The public is invited to make oral comments or submit written statements for consideration. Due to limited time and structure of meeting, notification of intent to participate must be made with Theresa Singleton. For more information please contact Theresa Singleton at 1-888-912-1227 or 202-317-3329, or write TAP Office, 1111 Constitution Ave. NW., Room 1509, Washington, DC 20224 or contact us at the Web site: http://www.improveirs.org. The agenda will include various IRS issues.

Dated: December 17, 2015.
Otis Simpson,
Acting Director, Taxpayer Advocacy Panel.

[FR Doc. 2015-32480 Filed 12-24-15; 8:45 am]

BILLING CODE 4830-01-P